DEPARTMENT OF THE TREASURY

Internal Revenue Service

Privacy Act of 1974, as Amended; System of Records

AGENCY: Internal Revenue Service, Treasury.

ACTION: Notice of alteration of a system of records.

SUMMARY: The Treasury Department, Internal Revenue Service, gives notice of a proposed revision to the system of records entitled “Security Clearance Files-Treasury/IRS 34.016,” which is subject to the Privacy Act of 1974, as amended, 5 U.S.C. 552a.

DATES: This notice will be adopted without further publication in the Federal Register on April 18, 2000, unless modified by a subsequent notice to incorporate comments received from the public.

FOR FURTHER INFORMATION CONTACT: Mary Anderson, Program Analyst, Personnel Security Office A:PS:PSO, Internal Revenue Service, 1111 Constitution Avenue, NW, Room 4244, Washington, DC 20224, telephone (202) 622-9245.

SUPPLEMENTARY INFORMATION: On February 10, 1999, Delegation Order #133, as revised, authorized the Chief, Management and Finance to process security clearances for IRS personnel in critical sensitive or noncritical sensitive positions or assignments. This authority can be re-delegated no lower than the Personnel Security Officer. The security clearance information (i.e., grants, cancellations, and denials) is maintained by the Chief, Agencywide Shared Services, within the IRS Personnel Security Office.

The purpose of the alteration is to bring the notice pertaining to Security Clearance Files-Treasury/IRS 34.016 into compliance with the Privacy Act by making changes which reflect the transfer of responsibility for the system. The alterations include: A change to “System location,” “Retrievability,” “Safeguards,” “System manager,” and “Record access procedures.” In addition, the Privacy Act notice data element “Purpose” is being added to the notice to conform to the requirements of the Act. The system notice was last published in its entirety in the Federal Register, Vol 63, page 69869, on December 17, 1998.

The changes to the system of records are not within the purview of subsection (r) of the Privacy Act of 1974, as amended, which requires the submission of a new or altered system report. For the reasons set forth in this preamble, the IRS proposes to amend its system of records Treasury/IRS 34.016.

Dated: April 10, 2000.
Shelia Y. McCann,
Deputy Assistant Secretary (Administration).

Treasury/IRS 34.016

System name:

Security Clearance Files—Treasury/IRS.

System location:

Description of change: Replace the current statement with the following: “Internal Revenue Service, Personnel Security Office, 1111 Constitution Avenue, NW, Room 4244, Washington, DC 20224.”

* * * * *

Description of change: Immediately preceding the heading “Routine Uses of Records Maintained in the System Including Categories of Users and the Purposes of Such Uses,” insert the following entry:

Purpose:

This system of records documents issuances, transfers, and cancellations of security clearances issued to Internal Revenue Service employees in critical sensitive and noncritical sensitive positions.”

* * * * *

Retrievability:

Description of change: Replace the current statement with the following: “Indexed by name or social security number.”

Safeguards:

Description of change: Replace the current statement with the following: “Access controls will not be less than those provided by the Automated Information System Security Handbook, IRM 2(10)00, and the Manager's Security Handbook, IRM 1(16)12. Records are stored in locked file cabinets and computerized records are password protected.”

* * * * *

System manager(s) and address:

Description of change: Replace the current statement with the following: “Official prescribing policies and practices—Chief, Agencywide Shared Services, 1111 Constitution Avenue, NW, Washington, DC 20224. Official maintaining the system and records—Personnel Security Officer, A:PS:PSO, 1111 Constitution Avenue, NW, Room 4244, Washington, DC 20224.”

* * * * *

Record access precdures:

Description of change: Replace the current statement with the following: “Individuals seeking access to this system of records or seeking to contest its content may inquire in accordance with instructions appearing at 31 CFR part 1, subpart C, appendix B. Inquiries should be addressed to the IRS Personnel Security Officer, A:PS:PSO, 1111 Constitution Avenue, NW, Room 4244, Washington, DC 20224.”

* * * * *

[FR Doc. 00-9646 Filed 4-17-00; 8:45 am]

BILLING CODE 4830-01-P